ENVIRONMENTAL PROTECTION AGENCY

[EPA-HQ-OW-2015-0056; FRL-9957-69-OW]

National Advisory Council for Environmental Policy and Technology: Assumable Waters Subcommittee; Notice of Public Meeting

AGENCY: Environmental Protection Agency (EPA).

ACTION: Notice of Federal advisory subcommittee meetings.

SUMMARY: Consistent with the Federal Advisory Committee Act, the Environmental Protection Agency (EPA) is giving notice of an upcoming public meeting of the Assumable Waters Subcommittee convened under the National Advisory Council for Environmental Policy and Technology (NACEPT). The Assumable Waters Subcommittee will provide advice and recommendations as to how the EPA can best clarify assumable waters for dredge and fill permit programs pursuant to Clean Water Act section 404(g)(1). The EPA is undertaking this effort to support states and tribes that wish to assume the program. Similar to the parent NACEPT, the subcommittee represents a diversity of interests from academia, industry, non-governmental organizations, and local, State, and tribal governments. Meeting agendas and materials will be posted at www.epa.gov/cwa-404/assumable-waters-sub-committee.

DATES: The Assumable Waters Subcommittee will hold a three-day public meeting January 25th through 27th, 2017, at the Courtyard Arlington Crystal City/Reagan National Airport Hotel. The meeting will be held during the following times:

• January 25th from 9:00 a.m. to 5:00 p.m. EDT

• January 26th from 8:30 a.m. to 5:00 p.m. EDT

• January 27th from 8:30 a.m. to 12:00 p.m. EDT

ADDRESSES: Courtyard Arlington Crystal City/Reagan National Airport Hotel, 2899 Jefferson Davis Highway, Arlington, VA, 22202.

FOR FURTHER INFORMATION CONTACT: Jacob B. Strickler, Acting Designated Federal Officer, via email at: assumablewaters@epa.gov, by phone: (202) 564-4692, or via postal service at: U.S. Environmental Protection Agency (MC-2388A), 1200 Pennsylvania Avenue NW., Washington, DC 20460.

SUPPLEMENTARY INFORMATION: Requests to make oral comments or to provide written comments to the Assumable Waters Subcommittee should be sent to Jacob B. Strickler via email at: assumablewaters@epa.gov by January 16th, 2017. The meetings are open to the public, with limited phone lines available on a first-come, first-served basis. Members of the public wishing to attend should contact Jacob B. Strickler via email at: assumablewaters@epa.gov or by phone at: (202) 564-4692 by January 16th, 2017, so we can ensure adequate phone lines are available. On January 25th and 26th, 2017, public comments will be heard beginning at 3:30 p.m. until 4:00 p.m. EDT or until all comments have been heard.

Meeting Access: The agency will strive to reasonably accommodate individuals with disabilities. Information regarding accessibility and/or accommodations for individuals with disabilities should be directed to Jacob B. Strickler at the email address or phone number listed above. To ensure adequate time for processing, please make requests for accommodations at least 8 days prior to the meeting.

Dated: December 21, 2016.
Benita Best-Wong,
Director, Office of Wetlands, Oceans, and Watersheds.

[FR Doc. 2016-31642 Filed 1-4-17; 8:45 am]

BILLING CODE 6560-50-P